DEPARTMENT OF ENERGY

Federal Energy Regulatory Commission

[Project No. 12752-000]

AquaEnergy Group Ltd.; Notice Granting Late Intervention

April 6, 2007.

On November 22, 2006, AquaEnergy Group Ltd., filed an application for a preliminary permit for the Coos County Offshore Wave Energy Project No. 12752, to be located in the Pacific Ocean off the coast of Coos County, Oregon, southwest of the City of Bandon. The Commission issued public notice of the application on December 1, 2005, setting January 30, 2007, as the deadline for filing motions to intervene.

On February 16, 2007, the National Marine Fisheries Service filed a late motion to intervene. Granting the late motion to intervene will not unduly delay or disrupt the proceeding or prejudice other parties to it. Therefore, pursuant to Rule 214,¹ the late motion to intervene filed by the National Marine Fisheries Service is granted, subject to the Commission's rules and regulations.

¹ 18 CFR 385.214 (2006).

Philis J. Posey,
Acting Secretary.

[FR Doc. E7-6917 Filed 4-11-07; 8:45 am]

BILLING CODE 6717-01-P